DEPARTMENT OF HEALTH AND HUMAN SERVICES

National Center For Research Resources; amended Notice of Meeting

Notice is hereby given of a change in the meeting of the National Advisory Research Resources Council, May 18, 2000, 8 am to May 18, 2000, 5 pm, National Institutes of Health, 9000 Rockville Pike, Conference Room 6, Building 31C, Bethesda, MD, 20892 which was published in the Federal Register on April 5, 2000, 00-8316.

The meeting will be open to the public from 9:15 a.m. until 1:30 p.m., closed to the public from 1:30 p.m. to 3:30 p.m., and open to the public from 3:30 p.m. to adjournment. The meeting is partially closed to the public.

Dated: May 3, 2000.
LaVerne Y. Stringfield,
Director, Office of Federal Advisory Committee Policy.

[FR Doc. 00-11765 Filed 5-10-00; 8:45 am]

BILLING CODE 4140-01-M